DEPARTMENT OF HOMELAND SECURITY

Coast Guard

33 CFR Part 110

[Docket No. USCG-2023-0750]

RIN 1625-AA01

Establish Anchorage Ground; Crims Island Anchorage, Columbia River, Oregon and Washington

AGENCY: Coast Guard, DHS.

ACTION: Proposed rule; reopening of comment period.

SUMMARY: The Coast Guard is reopening the comment period for the notice of proposed rulemaking (NPRM) entitled “Establish Anchorage Ground; Crims Island Anchorage, Columbia River, Oregon and Washington,” published on December 28, 2023. Reopening the comment period will allow additional time for the public to review and submit comments on the proposed rule.

DATES: The comment period for the notice of proposed rulemaking published on December 28, 2023 (88 FR 89648) is reopened. Comments and related material must be submitted to the docket by May 10, 2024.

ADDRESSES: You may submit comments identified by docket number USCG-2023-0750 using the Federal Decision Making Portal at https://www.regulations.gov. See the “Public Participation and Request for Comments” portion of the SUPPLEMENTARY INFORMATION section for further instructions on submitting comments.

FOR FURTHER INFORMATION CONTACT: For information about this document call or email LT Carlie Gilligan, Sector Columbia River Waterways Management Division, U.S. Coast Guard; telephone 503-240-9319, email SCRWWM@uscg.mil.

SUPPLEMENTARY INFORMATION:

Public Participation and Request for Comments

The Coast Guard views public participation as essential to effective rulemaking, and will consider all comments and material received on this notice of proposed rulemaking during the comment period. Your comment can help shape the outcome of this rulemaking. If you submit a comment, please include the docket number for this proposed rule, indicate the specific section of this document to which each comment applies, and provide a reason for each suggestion or recommendation.

Submitting comments. We encourage you to submit comments through the Federal Decision Making Portal at https://www.regulations.gov. To do so, go to https://www.regulations.gov, type USCG-2023-0750 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this as being available in the docket, find the docket as described in the previous paragraph, and then select “Supporting & Related Material” in the Document Type column. Public comments will also be placed in our online docket and can be viewed by following instructions on the https://www.regulations.gov Frequently Asked Questions web page. We review all comments received, but we will only post comments that address the topic of the document. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Public meeting. We are not planning to hold a public meeting but will consider doing so if we determine from public comments that a meeting would be helpful. We would issue a separate Federal Register notice to announce the date, time, and location of such a meeting.

Dated: April 4, 2024.
Charles E. Fosse,
Rear Admiral, U.S. Coast Guard Commander, Thirteenth Coast Guard District.

[FR Doc. 2024-07579 Filed 4-9-24; 8:45 am]

BILLING CODE 9110-04-P